ENVIRONMENTAL PROTECTION AGENCY

40 CFR Part 86

[FRL-7492-6]

RIN 2060-AJ77

Control of Air Pollution From New Motor Vehicles and New Motor Vehicle Engines; Modification of Federal On-Board Diagnostic Regulations for: Light-Duty Vehicles, Light-Duty Trucks, Medium Duty Passenger Vehicles, Complete Heavy Duty Vehicles and Engines Intended for Use in Heavy Duty Vehicles Weighing 14,000 Pounds GVWR or Less; Extension of Acceptance of California OBD II Requirements

AGENCY: Environmental Protection Agency.

ACTION: Direct final rule.

SUMMARY: EPA is taking direct final action to amend and revise certain requirements associated with the Federal on-board diagnostic (OBD) system regulations. EPA previously promulgated an OBD rulemaking on December 22, 1998 (63 FR 70681) which indefinitely extended the provision allowing compliance with California OBD II requirements to satisfy federal OBD requirements. The California Air Resources Board (CARB) has recently revised their OBD II requirements and, accordingly, today's rulemaking promulgates appropriate revisions to Federal OBD regulations including: an update to the acceptable version of the California OBD II regulations that allows compliance with California OBD II regulations to satisfy Federal OBD regulations; inclusion of relevant sections pertaining to California OBD II catalyst monitoring requirements when accepting manufacturers' demonstration of compliance with California OBD II; an update of the incorporation by reference of standardized practices developed by the Society of Automotive Engineers (SAE) and the International Organization for Standardization (ISO) to incorporate recently published versions, while also incorporating by reference a new standardized protocol developed by the International Organization for Standardization (ISO) and establishing a future date by which this protocol will be the only acceptable protocol; and a technical amendment to the optional chassis certification requirements for heavy-duty (HD) vehicles weighing 14,000 pounds GVWR or less. OBD systems in general provide substantial benefits to the environment by diagnosing and alerting operators, vehicle inspection and maintenance (I/M) personnel, and service providers of deterioration or malfunction of emission related control systems.

DATES: This direct final rule becomes effective August 18, 2003 without further notice, unless we receive adverse comments by July 17, 2003 or we receive a request for a public hearing by July 2, 2003. Should EPA receive any adverse comments on this direct final rule, we will publish a subsequent action in the Federal Register withdrawing an amendment, paragraph, or section of this final rule. The incorporation by reference of certain publications listed in the rule is approved August 18, 2003.

ADDRESSES: All comments and materials relevant to today's action should be submitted to Public Docket No. A-2002-20 at the following address: EPA Docket Center (EPA/DC), Public Reading Room, Room B102, EPA West Building,1301 Constitution Avenue, NW., Washington, DC. The EPA Docket Center Public Reading Room is open from 8:30 a.m. to 4:30 p.m., Monday through Friday, except on government holidays. You can reach the Reading Room by telephone at (202) 566-1742, and by facsimile at (202) 566-1741. The telephone number for the Air Docket is (202) 566-1742. You may be charged a reasonable fee for photocopying docket materials, as provided in 40 CFR part 2. A request for hearing should be made to the person noted in the FOR FURTHER INFORMATION CONTACT section.

FOR FURTHER INFORMATION CONTACT: Arvon L. Mitcham, Certification and Compliance Division, U.S. Environmental Protection Agency, 2000 Traverwood, Ann Arbor, Michigan 48105, Telephone 734-214-4522, or Internet e-mail at “mitcham.arvon@epa.gov.”

SUPPLEMENTARY INFORMATION: EPA is publishing this direct final rule without prior proposal because we view this action as noncontroversial and anticipate no adverse comment. However, in the “Proposed Rules” section of today's Federal Register publication, we are publishing a separate document that will serve as the proposal to adopt the provisions in this direct final rule if adverse comments are filed. This rule will be effective on August 18, 2003 without further notice unless we receive adverse comment by July 17, 2003 or a request for a public hearing by July 2, 2003. If we receive adverse comment on one or more distinct amendments, paragraphs, or sections of this rulemaking, we will publish a timely withdrawal in the Federal Register indicating which provisions are being withdrawn due to adverse comment. We may address all adverse comments in a subsequent final rule based on the proposed rule. We will not institute a second comment period on this action. Any parties interested in commenting must do so at this time. Any distinct amendment, paragraph, or section of today's rulemaking for which we do not receive adverse comment will become effective on the date set out above, notwithstanding any adverse comment on any other distinct amendment, paragraph, or section of today's rule.

Regulated Entities

Entities potentially regulated by this action are those which manufacture new motor vehicles and engines.

Category | Examples of regulated entities | NAICS Codes ᵃ | SIC Codes ᵇ
Industry | New motor vehicle and engine manufacturers | 33611, 336112, 336120 | 3711
ᵃ North American Industry Classification System (NAICS) Code.
ᵇ Standard Industrial Classification (SIC) System Code. This table is not intended to be exhaustive, but rather provides a guide for readers regarding entities EPA is now aware could potentially be regulated by this action. Other types of entities not listed in the table could also be regulated. To determine whether your product is regulated by this action, you should carefully examine the applicability criteria in §§ 86.005-17, 86.1806-04, and 86.1806-05 of title 40 of the Code of Federal Regulations. If you have questions regarding the applicability of this action to a particular product, consult the person listed in the preceding FOR FURTHER INFORMATION CONTACT section.

Table of Contents

I. Electronic Availability

II. Introduction and Background

III. Requirements of the Direct Final Rule

A. Update of Provision for Acceptance of California Air Resources Board (CARB) OBD II as Satisfying Federal OBD Requirements

B. Inclusion of California OBD II Catalyst Monitoring Requirements in Federal OBD Regulations when Accepting California OBD II Compliance

C. Technical Amendment to the Optional Chassis Certification Requirements for Heavy-duty (HD) less than 14,000 pounds GVWR

D. Applicability

E. Update of Materials Incorporated by Reference

IV. Cost Effectiveness

V. Statutory and Executive Order Reviews

A. Executive Order 12866: Regulatory Planning and Review

B. Paperwork Reduction Act

C. Regulatory Flexibility Act

D. Unfunded Mandates Reform Act

E. Executive Order 13132: Federalism

F. Executive Order 13175: Consultation and Coordination with Indian Tribal Governments

G. Executive Order 13045: Protection of Children from Environmental Health & Safety Risks

H. Executive Order 13211: Actions that Significantly Affect Energy Supply, Distribution, or Use

I. National Technology Transfer and Advancement Act

J. Congressional Review Act

I. Electronic Availability

Today's action is available electronically on the day of publication from EPA's Federal Register Internet Web site listed below. Electronic copies of this preamble, regulatory language, and other documents associated with today's direct final rule are available from the EPA Office of Transportation and Air Quality Web site listed below shortly after the rule is signed by the Administrator. This service is free of charge, except any cost that you already incur for connecting to the Internet.

EPA Federal Register Web site: http://www.epa.gov/docs/fedrgstr/epa-air/.

(Either select a desired date or use the Search feature.)

II. Introduction and Background

On February 19, 1993, pursuant to Clean Air Act (CAA) section 202(m), 42 U.S.C. 7521(m), EPA published a final rulemaking (58 FR 9468) requiring manufacturers of light-duty vehicles (LDVs) and light-duty trucks (LDTs) to install on-board diagnostic (OBD) systems on such vehicles beginning with the 1994 model year. The regulations promulgated in that final rulemaking require that manufacturers install OBD systems which monitor emission control components for any malfunction or deterioration causing exceedance of certain emission thresholds, and alert the vehicle operator to the need for repair. That rulemaking also requires that, when a malfunction occurs, diagnostic information must be stored in the vehicle's computer to assist the technician in diagnosis and repair.

Additionally, this original OBD regulation provided an allowance for manufacturers to satisfy federal OBD requirements through the 1998 model year by installing OBD systems satisfying the California OBD II requirements pertaining to those model years. On December 22, 1998 (63 FR 70681), EPA revised the federal OBD regulations such that the allowance of compliance with the California OBD II regulations (excluding anti-tampering provisions) extended indefinitely, rather than applying only through the 1998 model year. In addition, EPA updated the allowed version of the California OBD II regulations to the most recently published version, at that time, CARB Mail-Out #97-24 (December 9, 1997).

California has recently issued revisions to their OBD II requirements as described in CARB Mail-Out MSCD #02-11 (internet posting date October 7, 2002) and Attachment II, Modifications to Malfunction and Diagnostic System Requirements for 2004 and Subsequent Model-Year Passenger Cars, Light-Duty Trucks, and Medium-Duty Vehicles and Engines (OBD II), Section 1968.2, Title 13, California Code of Regulations. In today's action, EPA is revising the federal OBD regulations to update the allowed version of the California OBD II regulations to the most recently issued version noted above, such that the allowance of compliance with the California OBD II regulations (with the exclusion of certain provisions as noted below) continues to be accepted. EPA is making this revision, and continuing to allow manufacturers to demonstrate compliance with California's OBD regulations, to encourage broader OBD development and calibration efforts. EPA believes that the benefits of a robust OBD program outweigh the benefits of the unique requirements of the federal OBD regulations. EPA also believes, as was noted in an August 30, 1996 final rule (61 FR 45898), that the California OBD II program fully meets the requirements of the Clean Air Act (CAA) and fulfills the intent of the federal OBD program.

Today's action also updates the incorporation by reference of standardized practices developed by the Society of Automotive Engineers (SAE) and the International Organization for Standardization (ISO) to recently published versions. EPA believes that by including these standardized practices in our regulations we ensure continuity and uniformity in the design of OBD II systems, which was mandated in section 202(m)(4) of the CAA. As a result, changes and updates to these standardized practices must be recognized by revising our regulations to incorporate by reference the latest versions of these documents.

Today's action also incorporates a new, optional standardized communication protocol, ISO 15765-4.3:2001, December 14, 2001, “Road Vehicles-Diagnostics on Controller Area Network (CAN)—Part 4: Requirements for emission-related systems”, that can be used by manufacturers to design OBD systems. The standardized communication protocols provide a uniform language structure that facilitates compatibility between OBD II equipped vehicles and OBD II-related equipment. Manufacturers are planning to implement this new protocol on vehicles as early as the 2004 MY. In addition, EPA is requiring that commencing in the 2008 model year the only allowable protocol will be this new communication protocol, ISO 15765-4.3. With the 2008 model year, the other, currently-accepted protocols: SAE J1850, ISO 9141-2 and ISO 14230-4; will no longer be accepted and all manufacturers must implement OBD systems using only ISO 15765-4.3.

III. Requirements of the Direct Final Rule

Following are the provisions promulgated by this direct final rulemaking.

A. Update of Provision for Acceptance of California Air Resources Board (CARB) OBD II as Satisfying Federal OBD Requirements

EPA is revising the existing provisions that allow indefinite optional compliance with the California OBD II requirements, excluding the California OBD II anti-tampering provisions, as satisfying federal OBD. Although the existing allowances continue indefinitely, the referenced CARB mail-out (and corresponding regulation) has been revised by California and is thus outdated. Thus, rather than the currently allowed CARB Mail-Out #97-24 (December 9, 1997), the allowed version will be CARB's recently updated version contained in CARB Mail-Out MSCD #02-11 (internet posting date October 7, 2002) and Attachment II, Modifications to Malfunction and Diagnostic System Requirements for 2004 and Subsequent Model-Year Passenger Cars, Light-Duty Trucks, and Medium-Duty Vehicles and Engines (OBD II), Section 1968.2, Title 13, California Code of Regulations. EPA recognizes that CARB may continue to make minor modifications to 13 CCR section 1968.2 before its full implementation. However, EPA believes it appropriate to revise its regulations at this time to reference the most recent version of CARB's requirements and EPA anticipates it will make the appropriate updated references by technical amendment or other appropriate rulemaking. Before such updated references occur, EPA believes that any changes made by CARB in its regulations would be minor and therefore the manufacturers will be able to utilize EPA's existing deficiency provisions in the rare circumstances where those CARB requirements that EPA references by today's action are more stringent than the OBD requirements met by the manufacturer under revised CARB regulations. Thus by today's rulemaking EPA is amending paragraph (j) as found respectively in 40 CFR 86.005-17 and 86.1806-05, to reflect CARB's most recent version of the OBD II requirements. In addition, because EPA's Tier 2 requirements commence in model year 2004, EPA is adding a new section (86.1806-04) to reflect the OBD requirements applicable to LDVs, LDTs, and MDPVs for model year 2004, including an optional compliance provision to CARB's recent OBD II requirements.

It should be noted, for purposes of EPA's regulations (where the vehicle is certified to federal emission standards), manufacturers choosing the California OBD II demonstration option need not comply with portions of that regulation pertaining to vehicles certified to certain emission standards under California's Low Emission Vehicle Program (LEV I or LEV II), Title 13 CCR section 1961, as those standards are not federal emission standards. By operation of CARB's OBD II regulations, a manufacturer's demonstration of compliance with California OBD II, where the vehicle is certified to federal emission standards, requires a manufacturer to correlate their malfunction thresholds to the applicable federal emission standards, not California standards (see 13 CCR section 1968.2(c)(19) and (20)). Additionally, manufacturers choosing the California OBD II demonstration option need not comply with 13 CCR section 1968.2(e)(4.2.2)(C) which requires evaporative system leak detection monitoring down to a 0.02 inch diameter orifice and represents a level of stringency beyond that required for federal OBD compliance. In lieu of this requirement, EPA will continue its current requirement as found at 40 CFR 86.005-17(b)(4), 40 CFR 86.1806-01(b)(4) and 40 CFR 86.1806-05 (b)(4) that requires evaporative system leak detection monitoring of a 0.040 inch diameter orifice and is clarified by today's rulemaking. As with EPA's current OBD regulations, manufacturers choosing the California OBD II demonstration option need not comply with 13 CCR section 1968.2(d)(1.4) which contains the anti-tampering provisions of the California OBD II regulations. In today's rulemaking EPA also clarifies that demonstration of compliance with 13 CCR 1968.2(e)(16.2.1)(C), to the extent such provisions apply to verification of proper alignment between the camshaft and crankshaft, only applies to vehicles equipped with variable valve timing. The requirement in 13 CCR 1968.2(e)(16.2.1)(C) regarding circuit continuity and rationality malfunctions is applicable to all vehicles. Also, as with EPA's current OBD regulations, the deficiency fine provisions of 13 CCR section 1968.2(i) do not apply. Therefore, as a continuation of EPA's current requirements, the deficiency provisions at 40 CFR 86.005-17(i), 86.1806-01(i), and 1806-05(i) remain applicable and are clarified by today's rulemaking.

B. Inclusion of California OBD II Catalyst Monitoring Requirements in Federal OBD Regulations When Accepting California OBD II Compliance

In EPA's rulemaking for heavy-duty engine and vehicle standards (65 FR 59896, October 6, 2000) (2004 HD Rule), EPA established new OBD system requirements for heavy-duty vehicles and engines, including aftertreatment monitoring requirements for all diesel-engine vehicles weighing 14,000 pounds GVWR or less regardless of whether the manufacturers demonstrated compliance with the Federal OBD requirements or with California's OBD requirements. Therefore, when accepting California OBD systems, it became necessary to exclude the particular section in the California OBD II regulations related to catalyst monitoring (Title 13, California Code of Regulations (CCR) 1968.1(b)(1.1.2)) because this regulation did not include requirements for aftertreatment of diesel-engines or complete vehicles. In California's recent OBD II revisions as described in CARB Mail-Out MSCD #02-11 (internet posting date October 7, 2002) and Attachment II, Modifications to Malfunction and Diagnostic System Requirements for 2004 and Subsequent Model-Year Passenger Cars, Light-Duty Trucks, and Medium-Duty Vehicles and Engines (OBD II), Section 1968.2, Title 13, California Code of Regulations, provisions for aftertreatment monitoring on all diesel-engine vehicles weighing 14,000 pounds GVWR or less are included. As a result, it is no longer necessary to exclude Title 13, CCR 1968.1(b)(1.1.2) related to aftertreatment monitoring requirements when accepting California OBD II compliance. Thus, today's action removes the language requiring compliance with the federal aftertreatment requirements if demonstrating optional compliance with California's OBD requirements.

C. Technical Amendment to the Optional Chassis Certification Requirements for Heavy-duty (HD) Less Than 14,000 Pounds GVWR

In another final rule that revised EPA's heavy duty engine and vehicle standards and highway diesel fuel sulfur requirements beginning in the 2007 model year (66 FR 5002, January 18, 2001) (2007 HD Rule), we provided an option for manufacturers of HD diesel vehicles weighing 14,000 pounds GVWR or less to chassis certify to the HD vehicle standards (40 CFR Subpart S, 86.1863-07 for chassis certification). In § 86.1863-07(b), we state that diesel vehicles certified under this chassis certification option are subject to the OBD requirements of 40 CFR 86.005-17, which is the section in subpart A containing the OBD requirements for engines. However, for chassis certification, we should have referenced 40 CFR 86.1806-05 of subpart S, which contains the chassis OBD requirements. This correction is consistent with the Agency's original intent as expressed in the preamble to the 2007 HD Rule at 66 FR 5002, at 5043. Therefore, today's action revises the language in 40 CFR 86.1863-07 (b) for optional chassis certification of diesel engines such that chassis OBD requirements in 40 CFR 86.1806-05 of subpart S are referenced.

D. Applicability

Today's revisions to: update the acceptable version of the California OBD II regulations; include California OBD II catalyst monitoring requirements when accepting CARB OBD II compliance, update the incorporation by reference of standardized practices developed by the Society of Automotive Engineers (SAE) and the International Organization for Standardization (ISO); incorporate by reference a new standardized protocol developed by the International Organization for Standardization (ISO) and establish a future date by which this protocol will be the only acceptable protocol; and amend the optional chassis certification requirements for heavy-duty (HD) vehicle weighing 14,000 pounds GVWR or less, apply to all 2004 and later model year light-duty vehicles, light-duty trucks, medium duty passenger vehicles, heavy-duty vehicles and otto-cycle engines intended for vehicles weighing less than 14,000 pounds GVWR where the manufacturer chooses to comply with Option 1 or 2 according to 40 CFR 86.005-01(c)(1) or (c)(2), and all 2005 and later model year heavy-duty diesel engines intended for vehicles weighing less than 14,000 pounds GVWR subject to the phase-in schedule for heavy-duty vehicles and engine OBD compliance in 40 CFR 86.005-17(k) and 86.1806-05(l).

E. Update of Materials Incorporated by Reference

Today's action includes the adoption of ISO 15765-4.3 (December 14, 2001): “Road Vehicles—Diagnostics on Controller Area Network (CAN)—Part 4: Requirements for emission-related systems,” as an acceptable protocol for standardized on-board to off-board communications and is incorporated by reference in today's regulatory language. This standardized procedure contains a more up-to-date communication protocol than that contained in SAE J1850/ISO 9141-2 and ISO 14230-4 which will remain referenced in the table at 40 CFR 86.1(b)(5). By today's action EPA is clarifying that ISO 14230-4 is acceptable for vehicles being certified today as well as vehicles certified through the 2007 model year. Adoption of ISO 15765-4.3 is also acceptable, in addition to ISO 14230-4, to all 2004 and later model year light-duty vehicles, light-duty trucks, medium duty passenger vehicles, heavy-duty vehicles and otto-cycle engines intended for vehicles weighing less than 14,000 pounds GVWR where the manufacturer chooses to comply with Option 1 or 2 according to 40 CFR 86.005-01(c)(1) or (c)(2), and all 2005 and later model year heavy-duty diesel engines intended for vehicles weighing less than 14,000 pounds GVWR. Beginning in the 2008 and later model year, ISO 15765-4.3 will be the only acceptable protocol used for standardized on-board to off-board communications. Thus a new entry is added to the table at § 86.1(b)(5) for ISO 15765-4.3 and is incorporated by reference into §§ 86.005-17, 86.1806-04, and 86.1806-05 and ISO 14230-4 contains new part 86 regulatory references (§§ 86.1806-01 and 86.1806-04) incorporated by reference.

Today's action also updates the incorporation by reference of several SAE standardized practices. Specifically, procedures J1850, J1962, J1979, and J2012. The existing references to these four SAE procedures within the table at § 86.1(b)(2) remain in effect along with the other SAE procedures already referenced in the table. The four SAE procedures noted here have been updated and thus shall apply beginning in model year 2004. Thus new entries are added to incorporate the updated J1850, J1962, J1979, and J2012 and are incorporated by reference into §§ 86.005-17, 86.1806-04, and 86.1806-05. In addition, today's action also incorporates SAE J1930 and SAEJ1978 into the table found in § 86.1(b)(2). These new SAE procedures are incorporated by reference into §§ 86.005-17, 86.1806-04, and 86.1806-05. Lastly, the references to SAE J1939-11, J1939-13, J1939-21, J1939-71, J1931-73, and J1931-81 are modified to reflect that such procedures are applicable to all 2004 and later model year light-duty vehicles, light-duty trucks and medium-duty passenger vehicles and thus incorporate by reference the new regulatory provision at § 86.1806-04.

IV. Cost Effectiveness

This rulemaking alters an existing provision by allowing optional compliance with the most recently “revised” California OBD II requirements for the purposes of demonstrating compliance with federal OBD requirements. EPA believes that today's regulation will provide cost savings by eliminating the need to incur significant recalibration and/or retesting costs and efforts associated with having two sets of OBD regulations with which to comply. Because this rulemaking alters an existing provision that provides regulatory relief by means of optional compliance methods, and since most of the industry currently complies with the California OBD II requirements under our provisions for optional compliance and because industry may thus minimize resource requirements, EPA believes that continued cost savings will be achieved. No adverse environmental consequences are anticipated as EPA expects manufacturers with vehicles complying with the new California OBD II requirements, and which also seek anything but a California-only federal certificate, will have OBD systems calibrated to federal Tier 2 standards and thus will be as environmentally protective as systems calibrated to federal Tier 1 standards.

V. Statutory and Executive Order Reviews

A. Executive Order 12866: Regulatory Planning and Review

Under Executive Order 12866 (58 FR 51735, Oct. 4, 1993), the Agency is required to determine whether this regulatory action would be “significant” and therefore subject to review by the Office of Management and Budget (OMB) and the requirements of the Executive Order. The Order defines a “significant regulatory action” as any regulatory action that is likely to result in a rule that may: (1) Have an annual effect on the economy of $100 million or more or adversely affect in a material way the economy, a sector of the economy, productivity, competition, jobs, the environment, public health or safety, or state, local, or tribal governments or communities; (2) Create a serious inconsistency or otherwise interfere with an action taken or planned by another agency; (3) Materially alter the budgetary impact of entitlements, grants, user fees, or loan programs or the rights and obligations of recipients thereof; or, (4) Raise novel legal or policy issues arising out of legal mandates, the President's priorities, or the principles set forth in the Executive Order.

Pursuant to the terms of Executive Order 12866, we have determined that this final rule is not a “significant regulatory action.”

B. Paperwork Reduction Act

Today's action does not impose any new information collection burden. The modifications noted above do not change the information collection requirements submitted to and approved by OMB in association with the OBD final rulemakings (58 FR 9468, February 19, 1993; and 59 FR 38372, July 28, 1994).

C. Regulatory Flexibility Act

EPA has determined that it is not necessary to prepare a regulatory flexibility analysis in connection with this direct final rule. After considering the economic impacts of today's direct final rule on small entities, EPA has determined that this action will not have a significant economic impact on a substantial number of small entities.

For purposes of assessing the impacts of today's direct final rule on small entities, small entity is defined as: (1) Those businesses meeting the definition provided by the Small Business Administration (2) a small governmental jurisdiction that is a government of a city, county, town, school district or special district with a population of less than 50,000; and (3) a small organization that is any not-for-profit enterprise which is independently owned and operated and is not dominant in its field.

This rulemaking will provide regulatory relief to both large and small volume automobile and heavy-duty vehicle and engine manufacturers by maintaining consistency with California OBDII requirements. This rulemaking will not have a significant impact on businesses that manufacture, rebuild, distribute, or sell automotive parts, nor those involved in automotive service and repair, as the revisions affect only requirements on automobile and heavy-duty truck and engine manufacturers. See United Distribution Companies v. FERC, 88 F. 3rd 1005, 1170 (D.C. Cir. 1996). Most manufacturers have thus far chosen to reduce their costs by producing vehicle OBD systems to California specifications, thereby avoiding the necessity of developing significantly different OBD calibrations meeting the existing federal specifications for the non-California markets. Today's continuation of the optional compliance option to California's OBDII requirements continues this cost reduction.

D. Unfunded Mandates Reform Act

Title II of the Unfunded Mandates Reform Act of 1995 (UMRA), Public Law 104-4, establishes requirements for federal agencies to assess the effects of their regulatory actions on state, local, and tribal governments, and the private sector. Under section 202 of the UMRA, we generally must prepare a written statement, including a cost-benefit analysis, for proposed and final rules with “federal mandates” that may result in expenditures to state, local, and tribal governments, in the aggregate, or to the private sector, of $100 million or more for any single year. Before promulgating a rule for which a written statement is needed, section 205 of the UMRA generally requires us to identify and consider a reasonable number of regulatory alternatives and adopt the least costly, most cost-effective, or least burdensome alternative that achieves the objectives of the rule. The provisions of section 205 do not apply when they are inconsistent with applicable law. Moreover, section 205 allows us to adopt an alternative that is not the least costly, most cost-effective, or least burdensome alternative if we provide an explanation in the final rule of why such an alternative was adopted.

Before we establish any regulatory requirement that may significantly or uniquely affect small governments, including tribal governments, we must develop a small government plan pursuant to section 203 of the UMRA. Such a plan must provide for notifying potentially affected small governments, and enabling officials of affected small governments to have meaningful and timely input in the development of our regulatory proposals with significant federal intergovernmental mandates. The plan must also provide for informing, educating, and advising small governments on compliance with the regulatory requirements.

This rule contains no federal mandates for state, local, or tribal governments as defined by the provisions of Title II of the UMRA. The rule imposes no enforceable duties on any of these governmental entities. Nothing in the rule will significantly or uniquely affect small governments.

We have determined that this rule does not contain a federal mandate that may result in estimated expenditures of more than $100 million to the private sector in any single year.

E. Executive Order 13132: Federalism

Executive Order 13132, entitled “Federalism” (64 FR 43255, August 10, 1999), requires us to develop an accountable process to ensure “meaningful and timely input by state and local officials in the development of regulatory policies that have federalism implications.” “Policies that have federalism implications” is defined in the Executive Order to include regulations that have “substantial direct effects on the states, on the relationship between the national government and the states, or on the distribution of power and responsibilities among the various levels of government.

Under Section 6 of Executive Order 13132, we may not issue a regulation that has federalism implications, that imposes substantial direct compliance costs, and that is not required by statute, unless the Federal Government provides the funds necessary to pay the direct compliance costs incurred by state and local governments, or we consult with state and local officials early in the process of developing the proposed regulation. We also may not issue a regulation that has federalism implications and that preempts state law, unless the Agency consults with state and local officials early in the process of developing the proposed regulation.

Section 4 of the Executive Order contains additional requirements for rules that preempt state or local law, even if those rules do not have federalism implications (i.e., the rules will not have substantial direct effects on the states, on the relationship between the national government and the states, or on the distribution of power and responsibilities among the various levels of government). Those requirements include providing all affected state and local officials notice and an opportunity for appropriate participation in the development of the regulation. If the preemption is not based on express or implied statutory authority, we also must consult, to the extent practicable, with appropriate state and local officials regarding the conflict between state law and federally protected interests within the Agency's area of regulatory responsibility.

This rule does not have federalism implications. It will not have substantial direct effects on the states, on the relationship between the national government and the states, or on the distribution of power and responsibilities among the various levels of government, as specified in Executive Order 13132. This proposed rule updates provisions of an earlier rule that adopted national standards relating to OBD systems and the ability of manufacturers to demonstrate federal compliance based on demonstration of compliance with California OBD II regulations. The requirements of the rule will be enforced by the federal government at the national level. Thus, the requirements of Section 6 of the Executive Order do not apply to this rule.

F. Executive Order 13175: Consultation and Coordination With Indian Tribal Governments

Executive Order 13175, entitled “Consultation and Coordination with Indian Tribal Governments” (65 FR 67249, November 6, 2000), requires EPA to develop an accountable process to ensure “meaningful and timely input by tribal officials in the development of regulatory policies that have tribal implications.” This final rule does not have tribal implications, as specified in Executive Order 13175. Today's rule does not uniquely affect the communities of American Indian tribal governments since the motor vehicle emission control system requirements in today's rule will have national applicability. Furthermore, today's rule does not impose any direct compliance costs on these communities and no circumstances specific to such communities exist that will cause an impact on these communities beyond those discussed in the other sections of today's document.

This rule does not significantly or uniquely affect the communities of Indian tribal governments. As noted above, this rule will be implemented at the federal level and imposes compliance obligations on private industry. Accordingly, the requirements of Executive Order 13084 do not apply to this rule.

G. Executive Order 13045: Protection of Children and Environmental Health & Safety Risks

Executive Order 13045, “Protection of Children from Environmental Health Risks and Safety Risks” (62 FR 19885, April 23, 1997) applies to any rule that (1) is determined to be “economically significant” as defined under Executive Order 12866, and (2) concerns an environmental health or safety risk that we have reason to believe may have a disproportionate effect on children. If the regulatory action meets both criteria, section 5-501 of the Executive Order directs us to evaluate the environmental health or safety effects of the planned rule on children, and explain why the planned regulation is preferable to other potentially effective and reasonably feasible alternatives considered by us.

This rule is not subject to the Executive Order because it is not an economically significant regulatory action as defined by Executive Order 12866. Furthermore, this rule does not concern an environmental health or safety risk that we have reason to believe may have a disproportionate effect on children.

H. Executive Order 13211: Actions That Significantly Affect Energy Supply, Distribution, or Use

This rule is not subject to Executive Order 13211, “Actions Concerning Regulations That Significantly Affect Energy Supply, Distribution, or Use” (66 FR 28355, May 22, 2001) because it is not a significant regulatory action under Executive Order 12866.

I. National Technology Transfer and Advancement Act

Section 12(d) of the National Technology Transfer and Advancement Act of 1995 (NTTAA), Section 12(d) of Public Law 104-113, directs us to use voluntary consensus standards in our regulatory activities unless it would be inconsistent with applicable law or otherwise impractical. Voluntary consensus standards are technical standards (e.g., materials specifications, test methods, sampling procedures, and business practices) developed or adopted by voluntary consensus standards bodies. The NTTAA directs us to provide Congress, through OMB, explanations when we decide not to use available and applicable voluntary consensus standards.

This rule references technical standards adopted by us through previous rulemakings. No new technical standards are established in today's rule.

J. Congressional Review Act

The Congressional Review Act, 5 U.S.C. 801 et seq., as amended by the Small Business Regulatory Enforcement Fairness Act of 1996, generally provides that before a rule may take effect, the agency promulgating the rule must submit a rule report, which includes a copy of the rule, to Congress and the comptroller General of the United States. We will submit a report containing this rule and other required information to the U.S. Senate, the U.S. House of Representatives, and the Comptroller General of the United States prior to publication of the rule in the Federal Register. A Major rule cannot take effect until 60 days after it is published in the Federal Register. This action is not a “major rule” as defined by 5 U.S.C. 804(2). This rule will be effective August 18, 2003.

Statutory and Legal Authority

Statutory authority for today's final rule comes from the Clean Air Act, 42 U.S.C. 7401 et seq., in particular, section 202(m) of the Act (42 U.S.C. 7521(m)).

List of Subjects in 40 CFR Part 86

Environmental protection, Administrative practice and procedure, Incorporation by reference, Motor vehicle pollution, On-board diagnostics

Dated: April 25, 2003.
Christine Todd Whitman,
Administrator.

For the reasons set out in the preamble, part 86 of title 40 chapter I of the Code of Federal Regulations is amended as follows:

PART 86—CONTROL OF EMISSIONS FROM NEW AND IN-USE HIGHWAY VEHICLES AND ENGINES

1. The authority citation for part 86 continues to read as follows:

Authority: 42 U.S.C. 7401-7671q.

2. Section 86.1 is amended as follows:

a. In the table to paragraph (b)(2) by adding the following entries to the end of the table.

b. In paragraph (b)(5) by revising the table.

The revisions and additions read as follows:

§ 86.1 Reference materials.

* * * * *

(b) * * *

(2) * * *

Document No. and name | 40 CFR part 86 reference
* * * * * | * * * * *
SAE J1850, Class B Data Communication Network Interface. (Revised, May 2001) | 86.005-17; 86.1806-04; 86.1806-05
SAE J1930, Electrical/Electronic Systems Diagnostic Terms, Definitions, Abbreviations, and Acronyms—Equivalent to ISO/TR 15031-2: April 30, 2002. (Revised, April 2002) | 86.005-17; 86.1806-04; 86.1806-05
SAE J1939-11, Physical Layer—250K bits/s, Shielded Twisted Pair. (Revised, October 1999) | 86.005-17; 86.1806-04; 86.1806-05
SAE J1939-13, Off-Board Diagnostic Connector. (July 1999) | 86.005-17; 86.1806-04; 86.1806-05
SAE J1939-21, Data Link Layer. (Revised, April 2001) | 86.005-17; 86.1806-04; 86.1806-05
SAE J1939-31, Network Layer. (Revised, December 1997) | 86.005-17; 86.1806-04; 86.1806-05
SAE J1939-71, Vehicle Application Layer—J1939-71 (through 1999). (Revised, August 2002) | 86.005-17; 86.1806-04; 86.1806-05
SAE J1939-73, Application Layer-Diagnostics. (Revised, June 2001) | 86.005-17; 86.1806-04; 86.1806-05
SAE J1939-81, Recommended Practice for Serial Control and Communications Vehicle Network Part 81—Network Management. (July 1997) | 86.005-17; 86.1806-04; —86.1806-05
SAE J1962, Diagnostic Connector—Equivalent to ISO/DIS 15031-3:December 14, 2001. (Revised, April 2002) | 86.005-17;86.1806-04; 86.1806-05
SAE J1978, OBD II Scan Tool—Equivalent to ISO/DIS 15031-4; December 14, 2001. (Revised, April 2002) | 86.005-17;86.1806-04; 86.1806-05
SAE J1979, E/E Diagnostic Test Modes—Equivalent to ISO/DIS 15031-5: April 30, 2002. (Revised, April 2002) | 86.099-17;86.005-17; 86.1806-01; 86.1806-04; 86.1806-05
SAE J2012, Diagnostic Trouble Code Definitions—Equivalent to ISO/DIS 15031-6: April 30, 2002. (Revised, April 2002,) | 86.005-17; 86.1806-04; 86.1806-05

* * * * *

(5) * * *

Document No. and name | 40 CFR part 86 reference
ISO 9141-2, February 1, 1994, Road vehicles—Diagnostic systems—Part 2: CARB requirements for interchange of digital information | 86.099-17; 86.1806-01; 86.1806-04; 86.005-17; 86.1806-05
ISO 14230-4:2000(E) “Road vehicles—Diagnostic systems—KWP 2000 requirements for Emission-related systems”, (June 1, 2000) | 86.099-17; 86.1806-01; 86.1806-04; 86.005-17; 86.1806-05
ISO 15765-4.3:2001, December 14, 2001, Road Vehicles—Diagnostics on Controller Area Network (CAN)—Part 4: Requirements for emission-related systems | 86.005-17; 86.1806-04; 86.1806-05

3. Section 86.005-17 is amended by revising paragraphs (h) and (j) to read as follows:

§ 86.005-17 On-board diagnostics.

* * * * *

(h) Reference materials. The OBD system shall provide for standardized access and conform with the following Society of Automotive Engineers (SAE) standards and/or the following International Standards Organization (ISO) standards. The following documents are incorporated by reference, see § 86.1:

(1) SAE material. Copies of these materials may be obtained from the Society of Automotive Engineers, Inc., 400 Commonwealth Drive, Warrendale, PA 15096-0001.

(i) SAE J1850 “Class B Data Communication Network Interface,” (Revised, May 2001) shall be used as the on-board to off-board communications protocol. All emission related messages sent to the scan tool over a J1850 data link shall use the Cyclic Redundancy Check and the three byte header, and shall not use inter-byte separation or check sums.

(ii) Basic diagnostic data (as specified in § 86.094-17(e) and (f)) shall be provided in the format and units in SAE J1979 “E/E Diagnostic Test Modes—Equivalent to ISO/DIS 15031-5: April 30, 2002”, (Revised, April 2002).

(iii) Diagnostic trouble codes shall be consistent with SAE J2012 “Diagnostic Trouble Code Definitions—Equivalent to ISO/DIS 15031-6: April 30, 2002”, (Revised, April 2002).

(iv) The connection interface between the OBD system and test equipment and diagnostic tools shall meet the functional requirements of SAE J1962 “Diagnostic Connector—Equivalent to ISO/DIS 15031-3: December 14, 2001” (Revised, April 2002).

(v) All acronyms, definitions and abbreviations shall be formatted according to SAE J1930 “Electrical/Electronic Systems Diagnostic Terms, Definitions, Abbreviations, and Acronyms” Equivalent to ISO/TR 15031-2: April 30, 2002”, (Revised, April 2002).

(vi) All equipment used to interface, extract and display OBD-related information shall meet SAE J1978 “OBD II Scan Tool” Equivalent to ISO 15031-4: December 14, 2001”, (Revised, April 2002).

(vii) As an alternative to the above standards, heavy-duty vehicles may conform to the specifications of the SAE J1939 series of standards (SAE J1939-11, J1939-13, J1939-21, J1939-31, J1939-71, J1939-73, J1939-81).

(2) ISO materials. Copies of these materials may be obtained from the International Organization for Standardization, Case Postale 56, CH-1211 Geneva 20, Switzerland.

(i) ISO 9141-2 “Road vehicles—Diagnostic systems—Part 2: CARB requirements for interchange of digital information,” (February 1, 1994) may be used as an alternative to SAE J1850 as the on-board to off-board communications protocol.

(ii) ISO 14230-4:2000(E) “Road vehicles—Diagnostic systems—KWP 2000 requirements for Emission-related systems”, (June 1, 2000) may also be used as an alternative to SAE J1850.

(iii) ISO 15765-4.3:2001 “Road Vehicles-Diagnostics on Controller Area Network (CAN)—Part 4: Requirements for emission-related systems”, (December 14, 2001) may also be used as an alternative to SAE J1850.

(3) Beginning with the 2008 model year and beyond, ISO 15765-4.3:2001 “Road Vehicles-Diagnostics on Controller Area Network (CAN)—Part 4: Requirements for emission-related systems”, (December 14, 2001) shall be the only acceptable protocol used for standardized on-board to off-board communications. At this time, all other standardized on-board to off-board communications protocols: SAE J1850 “Class B Data Communication Network Interface,” (Revised, May 2001) in paragraph (h)(1)(i) of this section, ISO 9141-2 “Road vehicles—Diagnostic systems—Part 2: CARB requirements for interchange of digital information,” (February 1, 1994) in paragraph (h)(2)(i) of this section, and ISO 14230-4 “Road vehicles—Diagnostic systems—KWP 2000 requirements for Emission-related systems”, (June 1, 2000) in paragraph (h)(2)(ii) of this section will no longer be accepted.

* * * * *

(j) California OBDII compliance option. For heavy-duty engines weighing 14,000 pounds GVWR or less, demonstration of compliance with California OBD II requirements (Title 13 California Code of Regulations § 1968.2 (13 CCR 1968.2)), as modified pursuant to CARB Mail-Out MSCD #02-11 (internet posting date October 7, 2002), shall satisfy the requirements of this section, except that compliance with 13 CCR 1968.2(e)(4.2.2)(C), pertaining to 0.02 inch evaporative leak detection, and 13 CCR 1968.2(d)(1.4), pertaining to tampering protection, are not required to satisfy the requirements of this section. Also, the deficiency provisions of 13 CCR 1968.2(i) do not apply. The deficiency provisions of paragraph (i) of this section and the evaporative leak detection requirement of paragraph (b)(4) of this section apply to manufacturers selecting this paragraph for demonstrating compliance. In addition, demonstration of compliance with 13 CCR 1968.2(e)(16.2.1)(C), to the extent it applies to the verification of proper alignment between the camshaft and crankshaft, applies only to vehicles equipped with variable valve timing.

* * * * *

4. A new § 86.1806-04 is added to subpart S to read as follows:

§ 86.1806-04 On-board diagnostics.

This § 86.1806-04 includes text that specifies requirements that differ from § 86.1806-01. Where a paragraph in § 86.1806-01 is identical and applicable to § 86.1806-04 this may be indicated by specifying the corresponding paragraph and the statement “[Reserved]. For guidance see § 86.1806-01.”

(a)-(g). [Reserved]. For guidance see § 86.1806-01.

(h) Reference materials. The OBD system shall provide for standardized access and conform with the following Society of Automotive Engineers (SAE) standards and/or the following International Standards Organization (ISO) standards. The following documents are incorporated by reference, see § 86.1:

(1) SAE material. (i) SAE J1850 “Class B Data Communication Network Interface,” (Revised, May 2001) shall be used as the on-board to off-board communications protocol. All emission related messages sent to the scan tool over a J1850 data link shall use the Cyclic Redundancy Check and the three byte header, and shall not use inter-byte separation or checksums.

(ii) Basic diagnostic data (as specified in §§ 86.094-17(e) and (f)) shall be provided in the format and units in SAE J1979 “E/E Diagnostic Test Modes—Equivalent to ISO/DIS 15031-5:April 30, 2002”, (Revised, April 2002).

(iii) Diagnostic trouble codes shall be consistent with SAE J2012 “Diagnostic Trouble Code Definitions—Equivalent to ISO/DIS 15031-6:April 30, 2002”, (Revised, April 2002).

(iv) The connection interface between the OBD system and test equipment and diagnostic tools shall meet the functional requirements of SAE J1962 “Diagnostic Connector—Equivalent to ISO/DIS 15031-3:December 14, 2001” (Revised, April 2002).

(v) All acronyms, definitions and abbreviations shall be formatted according to SAE J1930 “Electrical/Electronic Systems Diagnostic Terms, Definitions, Abbreviations, and Acronyms” Equivalent to ISO/TR 15031-2:April 30, 2002”, (Revised, April 2002).

(vi) All equipment used to interface, extract and display OBD-related information shall meet SAE J1978 “OBD II Scan Tool” Equivalent to ISO 15031-4:December 14, 2001”, (Revised, April 2002).

(vii) As an alternative to the above standards, heavy-duty vehicles may conform to the specifications of the SAE J1939 series of standards (SAE J1939-11, J1939-13, J1939-21, J1939-31, J1939-71, J1939-73, J1939-81).

(2) ISO materials. Copies of these materials may be obtained from the International Organization for Standardization, Case Postale 56, CH-1211 Geneva 20, Switzerland.

(i) ISO 9141-2 “Road vehicles—Diagnostic systems—Part 2: CARB requirements for interchange of digital information,” (February 1, 1994) may be used as an alternative to SAE J1850 as the on-board to off-board communications protocol.

(ii) ISO 14230-4:2000(E) “Road vehicles—Diagnostic systems—KWP 2000 requirements for Emission-related systems”, (June 1, 2000) may also be used as an alternative to SAE J1850.

(iii) ISO 15765-4.3:2001 “Road Vehicles-Diagnostics on Controller Area Network (CAN)—Part 4: Requirements for emission-related systems”, (December 14, 2001) may also be used as an alternative to SAE J1850.

(i) [Reserved]. For guidance see § 86.1806-01.

(j) California OBDII compliance option. For light-duty vehicles and light-duty trucks, demonstration of compliance with California OBD II requirements (Title 13 California Code § 1968.2 (13 CCR 1968.2)), as modified pursuant to CARB Mail-Out MSCD #02-11 (internet posting date October 7, 2002), shall satisfy the requirements of this section, except that compliance with 13 CCR 1968.2(e)(4.2.2)(C), pertaining to 0.02 inch evaporative leak detection, and 13 CCR 1968.2(d)(1.4), pertaining to tampering protection, are not required to satisfy the requirements of this section. Also, the deficiency fine provisions of 13 CCR 1968.2(i) does not apply. The deficiency provisions of paragraph (i) of this section and the evaporative leak detection requirement of paragraph (b)(4) of this section apply to manufacturers selecting this paragraph for demonstrating compliance. In addition, demonstration of compliance with 13 CCR 1968.2(e)(16.2.1)(C), to the extent it applies to the verification of proper alignment between the camshaft and crankshaft, applies only to vehicles equipped with variable valve timing.

(k) [Reserved]. For guidance see § 86.1806-01.

5. Section 86.1806-05 is amended by revising paragraphs (h) and (J) to read as follows:

§ 86.1806-05 On-board diagnostics.

* * * * *

(h) Reference materials. The OBD system shall provide for standardized access and conform with the following Society of Automotive Engineers (SAE) standards and/or the following International Standards Organization (ISO) standards. The following documents are incorporated by reference, see § 86.1:

(1) SAE material. Copies of these materials may be obtained from the Society of Automotive Engineers, Inc., 400 Commonwealth Drive, Warrendale, PA 15096-0001.

(i) SAE J1850 “Class B Data Communication Network Interface,” (Revised, May 2001) shall be used as the on-board to off-board communications protocol. All emission related messages sent to the scan tool over a J1850 data link shall use the Cyclic Redundancy Check and the three byte header, and shall not use inter-byte separation or checksums.

(ii) Basic diagnostic data (as specified in §§ 86.094-17(e) and (f)) shall be provided in the format and units in SAE J1979 “E/E Diagnostic Test Modes—Equivalent to ISO/DIS 15031-5:April 30, 2002”, (Revised, April 2002).

(iii) Diagnostic trouble codes shall be consistent with SAE J2012 “Diagnostic Trouble Code Definitions—Equivalent to ISO/DIS 15031-6: April 30, 2002”, (Revised, April 2002).

(iv) The connection interface between the OBD system and test equipment and diagnostic tools shall meet the functional requirements of SAE J1962 “Diagnostic Connector—Equivalent to ISO/DIS 15031-3:December 14, 2001” (Revised, April 2002).

(v) All acronyms, definitions and abbreviations shall be formatted according to SAE J1930 “Electrical/Electronic Systems Diagnostic Terms, Definitions, Abbreviations, and Acronym” Equivalent to ISO/TR 15031-2:April 30, 2002”, (Revised, April 2002).

(vi) All equipment used to interface, extract and display OBD-related information shall meet SAE J1978 “OBD II Scan Tool” Equivalent to ISO 15031-4:December 14, 2001”, (Revised, April 2002).

(vii) As an alternative to the above standards, heavy-duty vehicles may conform to the specifications of the SAE J1939 series of standards (SAE J1939-11, J1939-13, J1939-21, J1939-31, J1939-71, J1939-73, J1939-81).

(2) ISO materials. Copies of these materials may be obtained from the International Organization for Standardization, Case Postale 56, CH-1211 Geneva 20, Switzerland.

(i) ISO 9141-2 “Road vehicles—Diagnostic systems—Part 2: CARB requirements for interchange of digital information,” (February 1, 1994) may be used as an alternative to SAE J1850 as the on-board to off-board communications protocol.

(ii) ISO 14230-4:2000(E) “Road vehicles—Diagnostic systems—KWP 2000 requirements for Emission-related systems”, (June 1, 2000) may also be used as an alternative to SAE J1850.

(iii) ISO 15765-4.3:2001 “Road Vehicles-Diagnostics on Controller Area Network (CAN)—Part 4: Requirements for emission-related systems”, (December 14, 2001) may also be used as an alternative to SAE J1850.

(3) Beginning with the 2008 model year and beyond, ISO 15765-4.3:2001 “Road Vehicles-Diagnostics on Controller Area Network (CAN)—Part 4: Requirements for emission-related systems”, (December 14, 2001) will be the only shall be the only acceptable protocol used for standardized on-board to off-board communications. At this time, all other standardized on-board to off-board communications protocols: SAE J1850 “Class B Data Communication Network Interface,” (Revised, May 2001) in paragraph (h)(1)(i), ISO 9141-2 “Road vehicles—Diagnostic systems—Part 2: CARB requirements for interchange of digital information,” (February 1, 1994) in (h)(2)(i), and ISO 14230-4 “Road vehicles—Diagnostic systems—KWP 2000 requirements for Emission-related systems”, (June 1, 2000) in paragraph (h)(2)(ii) of this section will no longer be accepted

* * * * *

(j) California OBDII compliance option. For light-duty vehicles, light-duty trucks, and heavy-duty vehicles weighing 14,000 pounds GVWR or less, demonstration of compliance with California OBD II requirements (Title 13 California Code § 1968.2 (13 CCR 1968.2)), as modified pursuant to CARB Mail-Out MSCD #02-11 (internet posting date October 7, 2002), shall satisfy the requirements of this section, except that compliance with 13 CCR 1968.2(e)(4.2.2)(C), pertaining to 0.02 inch evaporative leak detection, and 13 CCR 1968.2(d)(1.4), pertaining to tampering protection, are not required to satisfy the requirements of this section. Also, the deficiency fine provisions of 13 CCR 1968.2(i) does not apply. The deficiency provisions of paragraph (i) of this section and the evaporative leak detection requirement of paragraph (b)(4) of this section apply to manufacturers selecting this paragraph for demonstrating compliance. In addition, demonstration of compliance with 13 CCR 1968.2(e)(16.2.1)(C), to the extent it applies to the verification of proper alignment between the camshaft and crankshaft, applies only to vehicles equipped with variable valve timing.

* * * * *

6. Section 86.1863-07 is amended by revising paragraphs (a) and (b) to read as follows:

§ 86.1863-07 Optional chassis certification for diesel vehicles.

(a) A manufacturer may optionally certify heavy-duty diesel vehicles weighing 14,000 pounds GVWR or less, to the standards specified in § 86.1816-08. Such vehicles must meet all requirements of Subpart S of this part that are applicable to Otto-cycle vehicles, except for evaporative, refueling, and OBD requirements where the diesel specific OBD requirements would apply.

(b) For OBD, diesel vehicles optionally certified under this section are subject to the OBD requirements of § 86.1806-05.

* * * * *

[FR Doc. 03-14569 Filed 6-16-03; 8:45 am]

BILLING CODE 6560-50-P